COMMITTEE FOR PURCHASE FROM PEOPLE WHO ARE BLIND OR SEVERELY DISABLED

Procurement List Proposed Additions and Deletions

AGENCY: Committee for Purchase From People Who Are Blind or Severely Disabled.

ACTION: Proposed Additions to and Deletions From Procurement List.

SUMMARY: The Committee is proposing to add to the Procurement List products and services to be furnished by nonprofit agencies employing persons who are blind or have other severe disabilities, and to delete services previously furnished by such agencies.

DATES: Comments Must Be Received on or Before: July 5, 2010.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to furnish the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List to be furnished by the nonprofit agencies listed:

Products

Cold Weather, Polypropylene Undershirts

NSN: 8415-01-546-0124—Undershirt Size X Small Short

NSN: 8415-01-546-0128—Undershirt Size X Small Regular

NSN: 8415-01-546-0160—Undershirt Size Small Short

NSN: 8415-01-538-8598—Undershirt Size Small Regular

NSN: 8415-01-546-0166—Undershirt Size Small Long

NSN: 8415-01-538-8614—Undershirt Size Medium Regular

NSN: 8415-01-546-0305—Undershirt Size Medium Long

NSN: 8415-01-538-8621—Undershirt Size Large Regular

NSN: 8415-01-538-8701—Undershirt Size Large Long

NSN: 8415-01-538-8705—Undershirt Size X Large Regular

NSN: 8415-01-538-8711—Undershirt Size X Large Long

NSN: 8415-01-546-0362—Undershirt Size X Large X Long

NSN: 8415-01-546-0369—Undershirt Size XX Large Regular

NSN: 8415-01-546-0370—Undershirt Size XX Large Long

NSN: 8415-01-546-0374—Undershirt Size XX Large X Long

NPAs: Knox County Association for Retarded Citizens, Inc., Vincennes, IN.

Peckham Vocational Industries, Inc., Lansing, MI.

Contracting Activity: Defense Logistics Agency, Defense Supply Center Philadelphia, Philadelphia, PA.

Coverage: C-list for an additional 25% of the requirements of the Department of Defense as aggregated by the Defense Supply Center Philadelphia.

Services

Service Type/Location: Custodial/Grounds Services, Donna Border Station, U.S. Highway 281 and FM 493, Donna, TX.

NPA: Mavagi Enterprises, Inc., San Antonio, TX.

Contracting Activity: Public Buildings Service, Building Services Team, Fort Worth, TX.

Service Type/Location: Custodial Services, FAA ARTCC Complex, 37075 Aviation Lane, Hilliard, FL.

NPA: The Right 2 Work Corporation, Jacksonville, FL.

Contracting Activity: Dept of Trans, Federal Aviation Administration, College Park, GA.

Service Type/Location: Document Assembly, Northern Research Station, 1992 Folwell Avenue, St. Paul, MN.

NPA: Opportunity Partners Inc., Minnetonka, MN.

Contracting Activity: Department of Agriculture, St. Paul, MN.

Service Type/Locations: Janitorial Services, Mt. Shasta Ranger Station, 204 W. Alma St., Mt. Shasta, CA.

McCloud Ranger Station, 2019 Forest Road, McCloud, CA.

NPA: Siskiyou Opportunity Center, Inc., Mt. Shasta, CA.

Contracting Activity: Department of Agriculture, Forest Service, Shasta-Trinity National Forest, Redding, CA.

Service Type/Location: Grounds Maintenance, National Weather Service Forecast Office, 400 Parkway Road, Charleston, WV.

NPA: Goodwill Industries of Kanawha Valley, Inc., Charleston, WV.

Contracting Activity: DEPT OF COMMERCE, National Oceanic and Atmospheric Administration, Norfolk, VA.

Service Type/Location: Custodial and Grounds Maintenance, U.S. Courthouse, 327 Church Street, Rockford, IL.

NPA: Goodwill Industries of Southeastern Wisconsin, Inc., Milwaukee, WI.

Contracting Activity: General Services Administration, Public Buildings Service, Property Management Division, Springfield, IL.

Service Type/Location: Mailroom/Courier Services, San Juan Customhouse Building, 1 La Puntilla Street, San Juan, PR.

NPA: The Corporate Source, Inc., New York, NY.

Contracting Activity: Department of Homeland Security, Bureau of Customs and Border Protection, Office of Procurement, Washington, DC.

Service Type/Location: Recycling Services, Kennedy Space Center, NASA Mail Code: OP-ES, Kennedy Space Center, FL.

NPA: Bridges BTC, Inc., Rockledge, FL.

Contracting Activity: National Aeronautics and Space Administration, Kennedy Space Center, Kennedy Space Center, FL.

Service Type/Location: Custodial Services, Child Development Center, U.S. Military Academy, West Point, NY.

NPA: New Dynamics, Inc., Middletown, NY.

Contracting Activity: U.S. Army Mission and Installation Contracting Command, Directorate of Contracting—West Point, NY.

Service Type/Location: Custodial Services, C4ISR Campus, Aberdeen Proving Ground, MD.

NPAs: The Chimes, Inc., Baltimore, MD,

Alliance, Inc., Baltimore, MD.

Contracting Activity: U.S. Army Mission and Installation Contracting Command, APG, Directorate of Contracting, Aberdeen Proving Ground, MD.

Service Type/Location: Custodial Services, Woodlawn Child Care Center, Social Security Administration, Baltimore, MD.

NPA: Goodwill Industries of the Chesapeake, Inc., Baltimore, MD.

Contracting Activity: Social Security Administration, Office of Acquisitions and Grants, Baltimore, MD.

Service Type/Location: Custodial Services, Headquarters Complex, Centers for Medicaid and Medicare Services, Woodlawn, MD.

NPA: Didlake, Inc., Manassas, VA.

Contracting Activity: General Services Administration, Public Building Service, Programs, Policy and Compliance Branch, Philadelphia, PA.

Service Type/Location: Custodial Services, U.S. Department of Energy, Forrestal Building, 1000 Independence Avenue, SW., Washington, DC.

NPA: Didlake, Inc., Manassas, VA.

Contracting Activity: U.S. Department of Energy, Office of Procurement Services, Washington, DC.

Service Type/Location: Custodial Services (Basewide), Joint Base Lewis-MChord, WA.

NPA: Skookum Education Programs, Bremerton, WA.

Contracting Activity: U.S. Army Mission and Installation Contracting Command, CCMI-RCK, Fort Knox, KY.

Service Type/Location: Custodial Services (Depot-wide), Tobyhanna Army Depot, Tobyhanna, PA.

NPA: Allied Health Care Services, Scranton, PA.

Contracting Activity: Tobyhanna Army Depot, Contract Operations Division, Tobyhanna, PA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to provide services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Administrative Services, U.S. Department of Commerce: National Weather Service NOAA, National Reconditioning Center, Kansas City, MO.

NPA: Alphapointe Association for the Blind, Kansas City, MO.

Contracting Activity: Dept of Commerce, National Oceanic and Atmospheric Administration, Norfolk, VA.

Service Type/Location: Janitorial/Custodial Services, Caribou-Targhee Forest Supervisor Office, U.S. Forest Service, St. Anthony, ID.

NPA: Development Workshop, Inc., Idaho Falls, ID.

Contracting Activity: Department of Agriculture, Procurement Operations Division, Washington, DC.

Barry S. Lineback,
Director, Business Operations.

[FR Doc. 2010-13472 Filed 6-3-10; 8:45 am]

BILLING CODE 6353-01-P